DEPARTMENT OF ENERGY

Agency Information Collection Extension

AGENCY: U.S. Department of Energy.

ACTION: Notice of request for comments.

SUMMARY: The Department of Energy (DOE), pursuant to the Paperwork Reduction Act of 1995, intends to extend for three years an information collection request with the Office of Management and Budget (OMB).

DATES: Comments regarding this proposed information collection must be received on or before September 19, 2025. If you anticipate any difficulty in submitting comments within that period, contact the person listed in the FOR FURTHER INFORMATION CONTACT section as soon as possible.

ADDRESSES: Written comments may be sent to Baldev Dhillon, EHSS-70, Germantown Building, U.S. Department of Energy, 1000 Independence Ave. SW, Washington, DC 20585-1290, or by email at Baldev.Dhillon@hq.doe.gov.

FOR FURTHER INFORMATION CONTACT: Baldev Dhillon, EHSS-70, Germantown Building, U.S. Department of Energy, 1000 Independence Ave. SW, Washington, DC 20585-1290, Telephone at (301) 903-0990 or by email at Baldev.Dhillon@hq.doe.gov, or information about the collection instruments may be obtained at https://energy.gov/ehss/information-collection.

SUPPLEMENTARY INFORMATION: Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains:

(1) OMB No.: 1910-5112;

(2) Information Collection Request Titled: Final Rule: Chronic Beryllium Disease Prevention Program;

(3) Type of Review: Renewal;

(4) Purpose: This collection provides the Department with the information needed to continue reducing the number of workers currently exposed to beryllium in the course of their work at DOE facilities managed by DOE or its contractors; minimize the levels and potential exposure to beryllium; to provide information to employees, to provide medical surveillance to ensure early detection of disease; and to permit oversight of the programs by DOE management;

(5) Annual Estimated Number of Respondents: 6,471 (27 DOE sites and 6,444 workers affected by the rule);

(6) Annual Estimated Number of Total Responses: 14,359;

(7) Annual Estimated Number of Burden Hours: 29,794;

(8) Annual Estimated Reporting and Recordkeeping Cost Burden: $2,248,023.52 [Same as response to question number A12.B on Supporting Statement A].

Statutory Authority: Atomic Energy Act of 1954, 42 U.S.C. 2201, and the Department of Energy Organization Act, 42 U.S.C. 7191 and 7254.

Signing Authority

This document of the Department of Energy was signed on August 18, 2025, by Stephanie K. Martin, Acting Director, Office of Environment, Health, Safety and Security pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC on August 18, 2025.
Jennifer Hartzell,
Alternate Federal Register Liaison Officer, U.S. Department of Energy.

[FR Doc. 2025-15920 Filed 8-19-25; 8:45 am]

BILLING CODE 6450-01-P